DEPARTMENT OF TRANSPORTATION

Federal Highway Administration

23 CFR Part 655

[FHWA Docket No. FHWA-99-6190]

RIN 2125-AE67

Traffic Control Devices on Federal-Aid and Other Streets and Highways; Color Specifications for Retroreflective Sign and Pavement Marking Materials

AGENCY: Federal Highway Administration (FHWA), DOT.

ACTION: Final rule; amendment.

SUMMARY: This document corrects the final rule on color specifications published in the Federal Register on July 31, 2002 (67 FR 49569). The FHWA is removing the sentence that requires the traffic control materials to maintain the color and luminance factors throughout the service life and making a typographical correction to a number in one of the color tables.

EFFECTIVE DATE: December 23, 2002.

FOR FURTHER INFORMATION CONTACT: For technical information: Mr. Ernest Huckaby, Office of Transportation Operations (HOTO), (202) 366-9064. For legal information: Mr. Raymond Cuprill, Office of the Chief Counsel (HCC-40), (202) 366-0791, Federal Highway Administration, 400 Seventh Street, SW., Washington, DC 20590-0001. Office hours are from 7:45 a.m. to 4:15 p.m., e.t., Monday through Friday, except Federal holidays.

SUPPLEMENTARY INFORMATION:

Electronic Access

This document, the final rule, the NPRM, and all comments received may be viewed online through the Document Management System (DMS) at: http://dms.dot.gov. The DMS is available 24 hours each day, 365 days each year. Electronic submission and retrieval help and guidelines are available under the help section of the web site.

An electronic copy of this document may also be downloaded by using a computer, modem and suitable communications software from the Government Printing Office's Electronic Bulletin Board Service at (202) 512-1661. Internet users may also reach the Office of the Federal Register's home page at: http://www.archives.gov and the Government Printing Office's web page at: http://www.access.gpo.gov.

Background

The final rule on Traffic Control Devices on Federal-Aid and Other Streets and Highways; Color Specifications for Retroreflective Sign and Pavement Marking Materials, was published in the Federal Register on July 31, 2002, at 67 FR 49569. This final rule went into effect on August 30, 2002. In response to the final rule, we received 17 comments to the docket. These comments are discussed below.

Discussion of Comments to the Final Rule

Several docket comments to the Notice of Proposed Amendment, published in the Federal Register on December 21, 1999, stated that the FHWA did not specify if the specifications were for “service life” or new product installation. As a result of these comments, the FHWA published the final rule inserting “service life” of the product without providing further justification. The FHWA received 17 comments submitted to the docket as a result of the final rule (9 from State and local DOTs; 2 from industry; 3 from associations; 3 from other individuals). The FHWA received significant comments from the American Association of State Highway and Transportation Officials (ASSHTO), the National Association of County Engineers (NACE), the National Committee on Uniform Traffic Control Devices Markings Technical Subcommittee, and several State and local highway agencies that objected to the FHWA inserting the language “service life” into the final rule. These commenters stated that the FHWA did not provide sufficient research results or further justification for such a requirement. Additionally, these commenters did not believe there was sufficient opportunity for public comment before the FHWA adopted this requirement.

These commenters went on to indicate that traditionally, color specifications are considered as initial values only and are used only in the acceptance of new materials. By specifically stating that the color specifications apply throughout the service life of signs and markings, these commenters believe that the FHWA has significantly changed the traditional application of color specifications and placed additional burden on transportation agencies.

The FHWA believes these comments received after publication of the final rule have merit and warrant immediate correction to the final rule. The FHWA made some initial assumptions about maintenance of traffic control devices and was not fully aware of the economic impact that the State and local jurisdictions may face. We agree that this “service life” requirement, without an extended phase-in compliance period, may have an unknown economic impact on compliance with these specifications. Therefore, the FHWA is removing this language from the appendix to subpart F of Part 655.

Furthermore, the FHWA plans to undertake a study on color fastness testing, to include weathering studies, and human factors studies related to color recognition by motorists. The FHWA anticipates that this will be a multi-year research effort.

The Reflexite Corporation advised the FHWA of a typographical error in table 2 to the appendix to part 655, subpart F—Nighttime Color Specification Limits for Retroreflective Material with CIE 2° Standard Observer and Observation Angle of 0.33°, Entrance Angle of +5° and CIE Standard Illuminant A. The first value for the color blue was mistakenly typed incorrectly while the table was being reformatted from the notice of proposed rulemaking (NPRM).

Therefore, the FHWA is correcting the typographical error. The first “x” coordinate value for the color “blue” is corrected to read “0.033” instead of “0.33”. The value “0.033” was correctly stated in the NPRM.

We also received a comment from the Virginia Department of Transportation (VDOT) regarding the use of Color Tolerance Charts as a valid source for daytime color measurement. The VDOT believes that the color tolerance charts for assessing nighttime color is not appropriate as the traditional highway color charts were developed for painted signs with button copy legend and thus are not even suitable for daytime color retroreflective materials.

The FHWA will have to address this issue through a separate rulemaking to solicit public comment.

Executive Order 12866 (Regulatory Planning and Review) and U.S. DOT Regulatory Policies and Procedures

The FHWA has determined that this action is not a significant regulatory action within the meaning of Executive Order 12866 or significant within the meaning of the U.S. Department of Transportation regulatory policies and procedures. The amendment of the final rule is considered a ministerial correction with no economic impact expected.

Regulatory Flexibility Act

In compliance with the Regulatory Flexibility Act (5 U.S.C. 601-612), the FHWA has evaluated the effects of this action on small entities and has determined that this action will not have a significant economic impact on a substantial number of small entities. As stated above, the removal of the language “service life” will alleviate the concerns surrounding the unknown economic impact on complying with this requirement. The minor correction to the first value of the color blue in Table 2 is considered editorial in nature. For these reasons, the FHWA certifies that this action will not have a significant economic impact on a substantial number of small entities.

Unfunded Mandates Reform Act of 1995

This rule will not impose unfunded mandates as defined by the Unfunded Mandates Reform Act of 1995 (Pub. L. 104-4, March 22, 1995, 109 Stat. 48). This rule will not result in the expenditure by State, local, and tribal governments, in the aggregate, or by the private sector, of $100 million or more in any one year (2 U.S.C. 1531 et seq).

Executive Order 12630 (Taking of Private Property)

This rule will not effect a taking of private property or otherwise have taking implications under Executive Order 12630, Governmental Actions and Interface with Constitutionally Protected Property Rights.

Executive Order 12988 (Civil Justice Reform)

This action meets applicable standards in sections 3(a) and 3(b)(2) of Executive Order 12988, Civil Justice Reform, to minimize litigation, eliminate ambiguity, and reduce burden.

Executive Order 13045 (Protection of Children)

We have analyzed this action under Executive Order 13045, Protection of Children from Environmental Health Risks and Safety Risks. This rule is not an economically significant rule and does not concern an environmental risk to health or safety that may disproportionately affect children.

Executive Order 13132 (Federalism)

This action has been analyzed in accordance with the principles and criteria contained in Executive Order 13132, dated August 4, 1999, and the FHWA has determined that this action does not have sufficient federalism implications to warrant the preparation of a Federalism assessment. The FHWA has also determined that this action will not preempt any State law or State regulation or affect the States' ability to discharge traditional State governmental functions.

Executive Order 12372 (Intergovernmental Review)

Catalog of Federal Domestic Assistance Program Number 20.205, Highway Planning and Construction. The regulations implementing Executive Order 12372 regarding intergovernmental consultation on Federal programs and activities apply to this program.

Paperwork Reduction Act

Under the Paperwork Reduction Act of 1995 (PRA) (44 U.S.C. 3501, et seq.), Federal agencies must obtain approval from the Office of Management and Budget (OMB) for each collection of information they conduct, sponsor, or require through regulations. The FHWA has determined that this action does not contain collection of information requirements for the purposes of the PRA.

National Environmental Policy Act

The FHWA has analyzed this action for the purpose of the National Environmental Policy Act of 1969 (42 U.S.C. 4321 et seq.) and has determined that this action will not have any effect on the quality of the environment.

Executive Order 13175 (Tribal Consultation)

The FHWA has analyzed this action under Executive Order 13175, dated November 6, 2000, and believes that it will not have substantial direct effects on one or more Indian tribes; will not impose substantial direct compliance costs on Indian tribal governments; and will not preempt tribal law. Therefore, a tribal summary impact statement is not required.

Executive Order 13211 (Energy Effects)

We have analyzed this rule under Executive Order 13211, Actions Concerning Regulations That Significantly Affect Energy Supply, Distribution, or Use. We have determined that it is not a significant energy action under that order because it is not a significant regulatory action under Executive Order 12866 and is not likely to have a significant adverse effect on the supply, distribution, or use of energy. Therefore, a Statement of Energy Effects under Executive Order 13211 is not required.

Regulation Identification Number

A regulation identification number (RIN) is assigned to each regulatory action listed in the Unified Agenda of Federal Regulations. The Regulatory Information Service Center publishes the Unified Agenda in April and October of each year. The RIN contained in the heading of this document can be used to cross reference this action with the Unified Agenda.

List of Subjects in 23 CFR Part 655

Design standards, Grant programs-transportation, Highways and roads, Incorporation by reference, Signs, Traffic regulations.

Issued on: November 12, 2002.
Mary E. Peters,
Federal Highway Administrator.

In consideration of the foregoing, the FHWA is amending title 23, Code of Federal Regulations, part 655, as follows:

PART 655—[AMENDED]

1. The authority citation for part 655 continues to read as follows:

Authority: 23 U.S.C. 101(a), 104, 109(d), 114(a), 217, 315, and 402(a); 23 CFR 1.32; and 49 CFR 1.48(b).

Appendix to Subpart F of Part 655—[AMENDED]

2. Amend paragraph number 6 by removing the second sentence.

3. Amend table 2 by correcting the first value for the color “blue” to read “0.033”.

[FR Doc. 02-29443 Filed 11-20-02; 8:45 am]

BILLING CODE 4910-22-P